SMALL BUSINESS ADMINISTRATION

Hatteras Venture Partners IV SBIC, L.P.; Application No. 99000769; Notice Seeking Exemption Under Section 312 of the Small Business Investment Act, Conflicts of Interest

Notice is hereby given that Hatteras Venture Partners IV SBIC, L.P., 280 South Mangum Street, Suite 350, Durham, NC 27001, an applicant for a Federal License under the Small Business Investment Act of 1958, as amended (“the Act”), in connection with the financing of a small concern, has sought an exemption under Section 312 of the Act and Section 107.730, Financings which Constitute Conflicts of Interest of the Small Business Administration (“SBA”) Rules and Regulations (13 CFR 107.730). Hatteras Venture Partners IV SBIC, L.P. proposes to provide equity financing to Clearside Biomedical, Inc., 1220 Old Alpharetta Road, Suite 300, Alpharetta, GA 30005 (“Clearside”). The financing will be used for working capital and general corporate purposes.

The financing is brought within the purview of § 107.730(a)(1) of the Regulations because Hatteras Venture Partners IV, LP and Hatteras Venture Partners III, LP, Associates of Hatteras Venture Partners IV SBIC, L.P., in the aggregate own more than ten percent of Clearside. Therefore, this transaction is considered a financing of an Associate requiring an exemption.

Notice is hereby given that any interested person may submit written comments on the transaction within fifteen days of the date of this publication to the Associate Administrator for Investment, U.S. Small Business Administration, 409 Third Street SW., Washington, DC 20416.

Dated: December 5, 2012.
Sean Greene,
Associate Administrator for Investment.

[FR Doc. 2012-30656 Filed 12-19-12; 8:45 am]

BILLING CODE P